DEPARTMENT OF ENERGY

Federal Energy Regulatory Commission

Combined Notice of Filings #2

Take notice that the Commission received the following exempt wholesale generator filings:

Docket Numbers: EG15-21-000.

Applicants: Sierra Solar Greenworks, LLC.

Description: Notice of Self-Certification of EWG Status of Sierra Solar Greenworks, LLC.

Filed Date: 12/4/14.

Accession Number: 20141204-5036.

Comments Due: 5 p.m. ET 12/26/14.

Take notice that the Commission received the following electric rate filings:

Docket Numbers: ER14-1215-002.

Applicants: Duke Energy Carolinas, LLC.

Description: Tariff Amendment per 35.17(b): Amend and Withdraw Filing re SCPSA and CECI to be effective 1/1/2014.

Filed Date: 12/4/14.

Accession Number: 20141204-5038.

Comments Due: 5 p.m. ET 12/26/14.

Docket Numbers: ER15-522-000; ER13-630-000; ER10-2437-000; EL14-98-000.

Applicants: Arizona Public Service Company.

Description: Arizona Public Service Company Response to Show Cause Order and Supplemental Work Papers in Support of the Triennial Market Power Update.

Filed Date: 12/2/14.

Accession Number: 20141202-5116.

Comments Due: 5 p.m. ET 12/23/14.

Docket Numbers: ER15-571-000.

Applicants: Southwest Power Pool, Inc.

Description: § 205(d) rate filing per 35.13(a)(2)(iii): 2066R3 Westar Energy, Inc. NITSA and NOA to be effective 8/1/2014.

Filed Date: 12/4/14.

Accession Number: 20141204-5059.

Comments Due: 5 p.m. ET 12/26/14.

Docket Numbers: ER15-572-000.

Applicants: Consolidated Edison Company of New York,, Rochester Gas and Electric Corporation, New York State Electric & Gas Corporation, Central Hudson Gas & Electric Corporation, Winston & Strawn LLP, New York Independent System Operator, Inc., Niagara Mohawk Power Corporation.

Description: § 205(d) rate filing per 35.13(a)(2)(iii): NY Transco Rate Schedule to be effective 4/3/2015.

Filed Date: 12/4/14.

Accession Number: 20141204-5075.

Comments Due: 5 p.m. ET 12/26/14.

Docket Numbers: ER15-573-000.

Applicants: Southern California Edison Company.

Description: § 205(d) rate filing per 35.13(a)(2)(iii): SGIAs and Distribution Service Agmts for SR Solis Projects to be effective 12/5/2014.

Filed Date: 12/4/14.

Accession Number: 20141204-5081.

Comments Due: 5 p.m. ET 12/26/14.

Docket Numbers: ER15-574-000.

Applicants: Rising Tree Wind Farm LLC.

Description: Initial rate filing per 35.12 Shared Facilities Agmnt to be effective 12/5/2014.

Filed Date: 12/4/14.

Accession Number: 20141204-5091.

Comments Due: 5 p.m. ET 12/26/14.

Docket Numbers: ER15-575-000.

Applicants: Rising Tree Wind Farm II LLC.

Description: Initial rate filing per 35.12 Shared Facilities Agreement to be effective 12/5/2014.

Filed Date: 12/4/14.

Accession Number: 20141204-5092.

Comments Due: 5 p.m. ET 12/26/14.

Docket Numbers: ER15-576-000.

Applicants: Southwest Power Pool, Inc.

Description: § 205(d) rate filing per 35.13(a)(2)(iii): 2166R3 Westar Energy, Inc. NITSA NOA to be effective 8/1/2014.

Filed Date: 12/4/14.

Accession Number: 20141204-5093.

Comments Due: 5 p.m. ET 12/26/14.

Docket Numbers: ER15-577-000.

Applicants: Rising Tree Wind Farm III LLC.

Description: Initial rate filing per 35.12 Shared Facilities Agreement to be effective 12/5/2014.

Filed Date: 12/4/14.

Accession Number: 20141204-5094.

Comments Due: 5 p.m. ET 12/26/14.

Docket Numbers: ER15-578-000.

Applicants: PJM Interconnection, L.L.C.

Description: § 205(d) rate filing per 35.13(a)(2)(iii): Revisions to the OA re Prohibited Securities and Financial Interests to be effective 2/16/2015.

Filed Date: 12/4/14.

Accession Number: 20141204-5095.

Comments Due: 5 p.m. ET 12/26/14.

Docket Numbers: ER15-579-000.

Applicants: Southwest Power Pool, Inc.

Description: § 205(d) rate filing per 35.13(a)(2)(iii): 2491R2 Westar Energy, Inc. NITSA and NOA to be effective 8/1/2014.

Filed Date: 12/4/14.

Accession Number: 20141204-5101.

Comments Due: 5 p.m. ET 12/26/14.

Docket Numbers: ER15-580-000.

Applicants: Midcontinent Independent System Operator, Inc.

Description: § 205(d) rate filing per 35.13(a)(2)(iii): 2014-12-04_SA 2718 Duke Energy-Duke Energy GIA (J333/J334) to be effective 12/5/2014.

Filed Date: 12/4/14.

Accession Number: 20141204-5128.

Comments Due: 5 p.m. ET 12/26/14.

Docket Numbers: ER15-581-000.

Applicants: Midcontinent Independent System Operator, Inc.

Description: § 205(d) rate filing per 35.13(a)(2)(iii): 2014-12-04_SA 2467 2nd Rev. MDU-MDU GIA (J200) to be effective 12/5/2014.

Filed Date: 12/4/14.

Accession Number: 20141204-5130.

Comments Due: 5 p.m. ET 12/26/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2014.
Nathaniel J. Davis, Sr.,
Deputy Secretary.

[FR Doc. 2014-28946 Filed 12-9-14; 8:45 am]

BILLING CODE 6717-01-P